DEPARTMENT OF TRANSPORTATION

Federal Motor Carrier Safety Administration

[Docket No. FMCSA-2015-0239]

Parts and Accessories Necessary for Safe Operation; Application for an Exemption From Volvo Trucks of North America

AGENCY: Federal Motor Carrier Safety Administration (FMCSA), DOT.

ACTION: Notice of application for exemption; request for comments.

SUMMARY: The Federal Motor Carrier Safety Administration (FMCSA) requests public comment on an application for exemption from Volvo Trucks of North America (Volvo) to allow the placement of rain and ambient light detection sensors on Volvo commercial motor vehicles (CMV) lower in the windshield than is currently permitted by the Agency's regulations in order to utilize a mounting location that allows the sensor to function correctly. The Federal Motor Carrier Safety Regulations (FMCSRs) currently require antennas, transponders, and similar devices to be located not more than 6 inches below the upper edge of the windshield, outside the area swept by the windshield wipers, and outside the driver's sight lines to the road and highway signs and signals. Volvo believes that mounting the sensor lower in the windshield will allow it to function properly while maximizing the external view of the road and maintaining an adequate forward facing field of view for the driver.

DATES: Comments must be received on or before August 24, 2015.

ADDRESSES: You may submit comments bearing the Federal Docket Management System (FDMS) Docket ID FMCSA-2015-0239 using any of the following methods:

• Web site: http://www.regulations.gov. Follow the instructions for submitting comments on the Federal electronic docket site.

• Fax: 1-202-493-2251.

• Mail: Docket Management Facility, U.S. Department of Transportation, Room W12-140, 1200 New Jersey Avenue SE., Washington, DC 20590-0001.

• Hand Delivery: Ground Floor, Room W12-140, DOT Building, 1200 New Jersey Avenue SE., Washington, DC, between 9 a.m. and 5 p.m. e.t., Monday-Friday, except Federal holidays.

Instructions: All submissions must include the Agency name and docket number for this notice. For detailed instructions on submitting comments and additional information on the exemption process, see the “Public Participation” heading below. Note that all comments received will be posted without change to http://www.regulations.gov, including any personal information provided. Please see the “Privacy Act” heading for further information.

Docket: For access to the docket to read background documents or comments received, go to http://www.regulations.gov or to Room W12-140, DOT Building, 1200 New Jersey Avenue SE., Washington, DC, between 9 a.m. and 5 p.m., Monday through Friday, except Federal holidays.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public participation: The http://www.regulations.gov Web site is generally available 24 hours each day, 365 days each year. You may find electronic submission and retrieval help and guidelines under the “help” section of the http://www.regulations.gov Web site as well as the DOT's http://docketsinfo.dot.gov Web site. If you would like notification that we received your comments, please include a self-addressed, stamped envelope or postcard or print the acknowledgment page that appears after submitting comments online.

FOR FURTHER INFORMATION CONTACT: Mr. Mike Huntley, Vehicle and Roadside Operations Division, Office of Carrier, Driver, and Vehicle Safety, MC-PSV, (202) 366-4325, Federal Motor Carrier Safety Administration, 1200 New Jersey Avenue SE., Washington, DC 20590-0001.

SUPPLEMENTARY INFORMATION:

Background

Section 4007 of the Transportation Equity Act for the 21st Century (TEA- 21) [Pub. L. 105-178, June 9, 1998, 112 Stat. 401] amended 49 U.S.C. 31315 and 31136(e) to provide authority to grant exemptions from the Federal Motor Carrier Safety Regulations (FMCSRs). On August 20, 2004, FMCSA published a final rule (69 FR 51589) implementing section 4007. Under this rule, FMCSA must publish a notice of each exemption request in the Federal Register (49 CFR 381.315(a)). The Agency must provide the public with an opportunity to inspect the information relevant to the application, including any safety analyses that have been conducted. The Agency must also provide an opportunity for public comment on the request.

The Agency reviews the safety analyses and the public comments and determines whether granting the exemption would likely achieve a level of safety equivalent to or greater than the level that would be achieved by the current regulation (49 CFR 381.305). The decision of the Agency must be published in the Federal Register (49 CFR 381.315(b)). If the Agency denies the request, it must state the reason for doing so. If the decision is to grant the exemption, the notice must specify the person or class of persons receiving the exemption and the regulatory provision or provisions from which an exemption is granted. The notice must specify the effective period of the exemption (up to 2 years) and explain the terms and conditions of the exemption. The exemption may be renewed (49 CFR 381.315(c) and 49 CFR 381.300(b)).

Volvo's Application for Exemption

Volvo has applied for an exemption from 49 CFR 393.60(e)(1) to allow the placement of rain and ambient light detection sensors on Volvo CMVs lower in the windshield than is currently permitted by the Agency's regulations in order to utilize a mounting location that allows the sensor to function correctly. A copy of the application is included in the docket referenced at the beginning of this notice.

Section 393.60(e)(1) of the FMCSRs prohibits the obstruction of the driver's field of view by devices mounted on the windshield. Antennas, transponders and similar devices must not be mounted more than 152 mm (6 inches) below the upper edge of the windshield. These devices must be located outside the area swept by the windshield wipers and outside the driver's sight lines to the road, highway signs and signals.

In its application, Volvo states:

Volvo is making this request so that it becomes possible to introduce a rain and ambient light detection sensor as an option on some Volvo commercial motor vehicles. In order for the sensor to function correctly, it must be installed in the wiper swept area of the windshield. This is due to the fact that an unswept portion of the windshield, which would not necessarily be kept clean and dry by the wipers, could make it difficult for the sensor to determine if the wipers are needed or not. The sensor, which is approximately 2.6 inches tall by 2.2 inches wide, would be placed on the passenger side of the windshield, outside the driver's sight lines to all mirrors, highway signs, signals, and view of the road ahead. Therefore, we respectfully request an exemption to grant us permission to proceed with the installation of the sensor on the lower part of the windshield within the bottom 6 inches of the area swept by the wipers . . .

This will enable Volvo to install this hands-free driver aid equipment for commercial motor vehicle operators while ensuring the adherence to the specified location requirements requested . . .

The temporary exemption will allow Volvo to install equipment within 7 inches at the bottom of wiper swept area of the windshield to determine the viability of the system as shown in diagrams enclosed.

Without the proposed exemption, Volvo states that it will not be able to deploy the rain sensor and ambient light system in vehicle models because (1) its “customers will be fined for violating the current regulation,” and (2) “the rain and ambient light sensing system will not perform adequately and will not generate the hands-free driver aid benefits that would be expected.”

The exemption would apply to all Volvo CMVs. Volvo believes that mounting the sensor lower in the windshield will allow it to function properly while maximizing the external view of the road and maintaining an adequate forward facing field of view for the driver.

Request for Comments

In accordance with 49 U.S.C. 31315 and 31136(e), FMCSA requests public comment from all interested persons on Volvo's application for an exemption from 49 CFR 393.60(e)(1). All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Issued on: July 17, 2015.
Larry W. Minor,
Associate Administrator for Policy.

[FR Doc. 2015-18172 Filed 7-23-15; 8:45 am]

BILLING CODE 4910-EX-P